INTERNATIONAL TRADE COMMISSION

[Investigation Nos. 337-TA-741/749]

Certain Liquid Crystal Display Devices, Including Monitors, Televisions, Modules, and Components Thereof; Commission Determination Not To Review an Initial Determination Terminating the Investigation as to U.S. Patent No. 6,121,941; Termination of Investigation

AGENCY: U.S. International Trade Commission.

ACTION: Notice.

SUMMARY: Notice is hereby given that the U.S. International Trade Commission has determined not to review initial determinations (“ID”) (Order No. 31) granting a joint motion to terminate the above-captioned investigation with respect to U.S. Patent No. 6,121,941. The investigation is terminated in its entirety.

FOR FURTHER INFORMATION CONTACT: Jia Chen, Office of the General Counsel, U.S. International Trade Commission, 500 E Street SW., Washington, DC 20436, telephone (202) 708-4737. Copies of non-confidential documents filed in connection with this investigation are or will be available for inspection during official business hours (8:45 a.m. to 5:15 p.m.) in the Office of the Secretary, U.S. International Trade Commission, 500 E Street SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted Inv. No. 337-TA-741 on October 18, 2010, based on a complaint filed by Thomson Licensing SAS of France and Thomson Licensing LLC of Princeton, New Jersey (collectively “Thomson”). 75 FR. 63856 (Oct. 18, 2010). The complaint alleged violations of section 337 of the Tariff Act of 1930, as amended 19 U.S.C. 1337, by reason of infringement of various claims of United States Patent Nos. 6,121,941 (“the '941 patent”); 5,978,063 (“the '063 patent”); 5,648,674 (“the '674 patent”); 5,621,556 (“the '556 patent”); and 5,375,006 (“the '006 patent”). The Commission instituted Inv. No. 337-TA-749 on November 30, 2010, based on a complaint filed by Thomson. 75 FR 74080 (Nov. 30, 2010). The complaint alleged violations of section 337 of the Tariff Act of 1930 by reason of infringement of various claims of the '063, '556, and '006 patents. On January 5, 2011, the Commission consolidated the two investigations. The respondents are Chimei InnoLux Corporation of Taiwan and InnoLux Corportation of Austin, Texas (collectively, “CMI”); MStar Semiconductor Inc. of Taiwan (“MStar”); Qisda Corporation of Taiwan and Qisda America Corporation of Irvine, California (collectively, “Qisda”); BenQ Corporation of Taiwan, BenQ America Corporation of Irvine, California, and BenQ Latin America Corporation of Miami, Florida (collectively “BenQ”); Realtek Semicondustor Corp. of Taiwan (“Realtek”); and AU Optronics Corp. of Taiwan and AU Optronics Corp. America of Houston, Texas.

On January 12, 2012, the ALJ issued his final ID finding no violation with respect to the '941, '063, '556, and '006 patents and a violation with respect to the '674 patent. On June 14, 2012, the Commission affirmed the ALJ's finding of no violation with respect to the '063, '556, and '006 patents. 77 FR 47067 (June 20, 2012). The Commission reversed the ALJ's finding of violation with respect to the '674 patent and remanded the investigation to the ALJ to determine whether the '941 patent is anticipated. Id.

On July 6, 2012, complainant Thomson and respondents Qisda, BenQ, CMI, Realtek, and MStar filed a joint motion under Commission Rule 210.21(a)(1) to terminate the investigation with respect to the '941 patent. The motion stated that there are no other agreements, written or oral, express or implied, between the parties concerning the subject matter of this investigation. On July 9, 2012, the ALJ issued the subject ID granting the joint motion. The ALJ found that no extraordinary circumstances exist that would prevent the requested termination and that the motion fully complies with Commission Rule 210.21(a)(1). No petitions for review were received.

The Commission has determined not to review the subject ID. The investigation is terminated in its entirety.

This action is taken under the authority of section 337 of the Tariff Act of 1930, as amended (19 U.S.C. 1337), and Part 210 of the Commission's Rules of Practice and Procedure (19 CFR part 210).

By order of the Commission.
William R. Bishop,
Hearings and Meetings Coordinator.

[FR Doc. 2012-18671 Filed 7-30-12; 8:45 am]

BILLING CODE P